DEPARTMENT OF THE INTERIOR

National Park Service

[NPS-WASO-NRNHL-DTS#-32139; PPWOCRADI0, PCU00RP14.R50000]

National Register of Historic Places; Notification of Pending Nominations and Related Actions

AGENCY: National Park Service, Interior.

ACTION: Notice.

SUMMARY: The National Park Service is soliciting electronic comments on the significance of properties nominated before June 12, 2021, for listing or related actions in the National Register of Historic Places.

DATES: Comments should be submitted electronically by July 9, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 12, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Custer County

Holdsworth House-Aspenholme-Pines Lodge, 379 Chalice Dr., Westcliffe vicinity, SG100006742

Denver County

Eleventh Avenue Hotel, 1112 Broadway St., Denver, SG100006741

CONNECTICUT

New London County

Uncasville Mill Historic District, 42, 46 Pink Row; 3-35 Crescent St. (odd #s), 5-19 Blumenthal Dr. (odd #s), 362 CT 32, Montville, SG100006732

GEORGIA

Burke County

Girard Elementary School, 9691 GA 23 South, Girard vicinity, SG100006735

Lowndes County

Hahira Commercial Historic District, Centered on Main St. (GA 122) between Marshall St. and Church St. (US 41), Hahira, SG100006746

IOWA

Polk County

St. Anthony's Church, 15 Indianola Rd., Des Moines, SG100006734

NEW JERSEY

Hunterdon County

Milford Historic District, Bridge, Carpenter, Church, Spring Garden, Green, and Maple Sts., Milford Borough, SG100006744

Somerset County

Harlingen Historic District, Van Horne, Dutchtown Harlingen, and Harlingen Rds., Montgomery Township, SG100006743

PENNSYLVANIA

Bucks County

Milford Historic District, Bridge, Carpenter, Church, Spring Garden, Green, and Maple Sts., Bridgeton Township, SG100006744

WEST VIRGINIA

Hancock County

Dunbar Recreation Center, 300 Kessell St., Weirton, SG100006740

WISCONSIN

Monroe County

Sparta High School, 201 East Franklin St., Sparta, SG100006747

Additional documentation has been received for the following resources:

NORTH CAROLINA

Pasquotank County

Elizabeth City Historic District (Additional Documentation), Irregular pattern along Main St., Elizabeth City, AD77001007

VIRGINIA

Caroline County

Meadow, The, Historic District (Additional Documentation), 13111 Dawn Blvd., Doswell, AD15000276

Washington County

Baker-St. John House (Additional Documentation), 18254 Providence Rd., Abingdon vicinity, AD11000033

Authority: Section 60.13 of 36 CFR part 60.

Dated: June 15, 2021.
Sherry A. Frear,
Chief, National Register of Historic Places/National Historic Landmarks Program.

[FR Doc. 2021-13220 Filed 6-23-21; 8:45 am]

BILLING CODE 4312-52-P